DEPARTMENT OF HEALTH AND HUMAN SERVICES

National Institutes of Health

Center for Scientific Review; Cancellation of Meeting

Notice is hereby given of the cancellation of the Center for Scientific Review Special Emphasis Panel: Mechanisms of Emotion, Stress and Health, October 25, 2021, 5:00 p.m. to October 25, 2021, 5:30 p.m., National Institutes of Health, Rockledge II, 6701 Rockledge Drive, Bethesda, MD, 20892 which was published in the Federal Register on September 28, 2021, FR Doc 2021-21035, 86 FR 53665.

This notice is being amended to announce that the meeting is cancelled.

Dated: September 30, 2021.
Melanie J. Pantoja,
Program Analyst, Office of Federal Advisory Committee Policy.

[FR Doc. 2021-21723 Filed 10-4-21; 8:45 am]

BILLING CODE 4140-01-P